DEPARTMENT OF LABOR

Employment and Training Administration

Notice of a Public Meeting of the Advisory Committee on Apprenticeship (ACA)

AGENCY: Employment and Training Administration (ETA), Labor.

ACTION: Notice of a public meeting.

SUMMARY: Pursuant to Section 10 of the Federal Advisory Committee Act (FACA) (5 U.S.C. App. 2 § 10), notice is hereby given to announce a public meeting of the Advisory Committee on Apprenticeship (ACA) on June 5, 2013, and June 6, 2013. The ACA is a discretionary committee established by the Secretary of Labor, in accordance with FACA, as amended in 5 U.S.C. App. 2, and its implementing regulations (41CFR parts 101-6 and 102-3). All meetings of the ACA are open to the public.

DATES: The meeting will begin at approximately 9:30 a.m. Eastern Standard Time on Wednesday, June 5, 2013, and will continue until approximately 4:00 p.m. The meeting will reconvene on Thursday, June 6, 2013, at approximately 8:30 a.m. Eastern Standard Time and adjourn at approximately 4:00 p.m.

FOR FURTHER INFORMATION CONTACT: The Designated Federal Official, Mr. John V. Ladd, Administrator, Office of Apprenticeship, Employment and Training Administration, U.S. Department of Labor, 200 Constitution Avenue NW., Room N-5311, Washington, DC 20210, Telephone: (202) 693-2796, (this is not a toll-free number).

SUPPLEMENTARY INFORMATION: The first day of the meeting will take place at the Pentagon, Army Navy Drive and Fern Street, Arlington, Virginia, 22202 on June 5, 2013. The meeting will continue at the Department of Labor, Frances Perkins Building, 200 Constitution Avenue NW., Washington, DC, 20210, Executive Room, C5515 on the second day, June 6, 2013. Members of the public are encouraged to arrive early to allow for security clearance into the building at both the Pentagon and the Francis Perkins Building.

Security Instructions for June 5, 2013 at the Pentagon:

In order to ensure everyone's safety, these guidelines must be followed when visiting the Pentagon. There are no exceptions to these rules and non-compliance will result in the inability to attend the meeting.

1. Arrive 30 minutes before the ACA meeting to allow time for processing through building security. Meeting participants will need to be checked in prior to the scheduled meeting time.

2. There is no public parking at the Pentagon. Public parking is available at the Pentagon City mall. It is also highly encouraged to use the Metro rail.

3. All purses, bags/briefcases carried into the Pentagon are subject to search. The following items are prohibited inside the building: Weapons of any sort (i.e., knives, box cutters, mace, pepper spray, etc.) that may cause bodily harm and large bags (i.e., knapsacks, camera bags, backpacks and shopping bags, etc). Anyone with the mentioned items will not be allowed on tour with such items.

The following items are not prohibited inside the building, but cannot be used along the tour route:

4. Electronic devices (i.e., cell phones, picture or video cameras, PDAs, blackberries, laptops, etc.) and tobacco products. You are encouraged to leave these items in the hotel, bus or van, or at home as it will slow down the processing into the building.

5. Proper Identification (ID) must be shown to building security. Ages 18 and up—require 2 forms of ID (one form must be a photo ID, the other may be a credit/debit card, social security card, birth certificate, or another item with the individual's name printed on it [excluding business cards]).

6. Please contact Pentagon Force Protection Agency directly at (703) 697-1001 regarding acceptable forms of ID.

7. Meeting participants not checked in inside the Pentagon Visitors Center by the scheduled meeting time will not be allowed to attend the meeting.

8. There is no photography allowed inside and outside of the Pentagon.

9. Meeting participants must stay to the center of the corridor to allow Pentagon personnel to pass by on either side and must stay together.

10. Food and beverages are not permitted into the meeting.

Any violation of these security measures will cause the tour to be terminated.

Security Instructions for June 6, 2013 at the Frances Perkins Building

Meeting participants should use the visitor's entrance to access Frances Perkins Building, one block north of Constitution Avenue on at 3rd and C Streets NW. For security purposes meeting participants must:

1. Present a valid photo ID to receive a visitor badge.

2. Know the name of the event you are attending: the meeting event is the Advisory Committee on Apprenticeship.

3. Visitor badges are issued by the security officer at the Visitor Entrance located at 3rd and C Streets NW. When you receive your visitor badge, the security officer will retain your photo ID until you return the visitor badge.

4. Laptops and other electronic devices may be inspected and logged for identification purposes.

5. Due to limited parking options, Metro rail is the easiest way to access the Frances Perkins Building.

Notice of Intent To Attend the Meeting

All meeting participants are being asked to submit a notice of intent to attend by Wednesday, May 1, 2013, via email to Mr. John V. Ladd at oa.administrator@dol.gov, subject line “June 2013 ACA Meeting.” Please indicate if you will be attending both days at both locations. This information is necessary to provide adequate space to accommodate all meeting participants. If individuals have special needs and/or disabilities that will require special accommodations, please contact Kenya Huckaby on (202) 693-3795 or via email at Huckaby.kenya@dol.gov no later than Wednesday, May 15, 2013. Any member of the public who wishes to file written data or comments pertaining to the agenda may do so by sending the data or comments to Mr. John V. Ladd via email at oa.administrator@dol.gov, subject line “June 2013 ACA Meeting,” or submitting to the Office of Apprenticeship, Employment and Training Administration, U.S. Department of Labor, Room N-5311, 200 Constitution Avenue NW., Washington, DC 20210. Such submissions will be included in the record for the meeting if received by Wednesday, May 15, 2013.

Purpose of the Meeting and Topics To Be Discussed

The primary purpose of the meeting is to discuss strategies to increase opportunities for transitioning veterans into Registered Apprenticeship and consider possible workgroups for the upcoming year. The meeting agenda will include the following:

• Brainstorming and Open Discussion on 4 Key Veteran Focused Issues Related to Registered Apprenticeship;

• German Skills Initiative;

• Sector Caucus Breakouts Sessions;

• Office of Apprenticeship Updates;

• ACA Workgroup Formation;

• Aspen Institute Report on Apprenticeship Cancelation Rates;

• Other Matters of Interest to the Registered Apprenticeship Community

• Public Comment

The agenda may be updated should priority items come before the ACA between the time of this publication and the scheduled date of the ACA meeting. All meeting updates will be posted to the Office of Apprenticeship's homepage: http://www.doleta.gov/oa/. Any member of the public who wishes to speak at the meeting should indicate the nature of the intended presentation and the amount of time needed by furnishing a written statement to the Designated Federal Official, Mr. John V. Ladd, by Wednesday, May 22, 2013. The Chairperson will announce at the beginning of the meeting the extent to which time will permit the granting of such requests.

Signed at Washington, DC, this 25th day of March 2013.
Jane Oates,
Assistant Secretary for the Employment and Training Administration.

[FR Doc. 2013-07918 Filed 4-4-13; 8:45 am]

BILLING CODE 4510-FR-P